DEPARTMENT OF COMMERCE

International Trade Administration

[A-570-918]

Steel Wire Garment Hangers From the People's Republic of China: Extension of Time Limit for Preliminary Results of the Third Antidumping Duty Administrative Review

AGENCY: Import Administration, International Trade Administration, Department of Commerce.

DATES: Effective Date: May 14, 2012.

FOR FURTHER INFORMATION CONTACT: Kabir Archuletta, AD/CVD Operations, Office 9, Import Administration, International Trade Administration, U.S. Department of Commerce, 14th Street and Constitution Avenue NW., Washington, DC 20230; telephone: (202) 482-2593.

Background

On November 30, 2011, the Department of Commerce (“the Department”) published in the Federal Register a notice of initiation of an administrative review of the antidumping duty order on steel wire garment hangers from the People's Republic of China (“PRC”) covering the period, October 1, 2010, through September 30, 2011.¹ On December 22, 2011, the Department selected Shanghai Wells Hanger Co., Ltd. (“Shanghai Wells”) and Shaoxing Liangbao Metal Manufactured Co., Ltd. (“Shaoxing Liangbao”), as mandatory respondents in the above referenced review.² On December 28, 2011, the Department issued a non-market economy antidumping questionnaire to Shanghai Wells and Shaoxing Liangbao.³ As stated in the cover letter of our questionnaire, the deadlines for Section A was January 18, 2012, and for Sections C and D were February 3, 2012.⁴ Shaoxing Liangbao did not respond to the Department's Section A questionnaire and did not request an extension by the stated deadline.

¹ See Initiation of Antidumping and Countervailing Duty Administrative Reviews and Request for Revocation in Part, 76 FR 74041 (November 30, 2011).

² See Memorandum to James Doyle, Director, Office 9, from Irene Gorelik, Senior International Trade Compliance Analyst, Office 9, regarding Third Administrative Review of Steel Wire Garment Hangers from the People's Republic of China: Selection of Mandatory Respondents (December 22, 2011).

³ See Letters to Shanghai Wells and Shaoxing Liangbao from Catherine Bertrand, Program Manager, Office 9, Import Administration; regarding the Antidumping Duty Administrative Review of Steel Garment Wire Hangers from the People's Republic of China: Non-market Economy Questionnaire (December 28, 2011).

⁴ See id.

On February 6, 2012, we selected an additional mandatory respondent, Pu Jiang County Command Metal Products Co., Ltd (“Pu Jiang”) as a replacement for Shaoxing Liangbao.⁵ In our cover letter, we established a Section A questionnaire response deadline of February 27, 2012.⁶ Pu Jiang did not respond to the Department's Section A questionnaire and did not request an extension by the stated deadline.

⁵ See Memorandum to James C. Doyle, Director, Office 9, from Kabir Archuletta, International Trade Compliance Analyst, Office 9, regarding Third Administrative Review of Steel Wire Garment Hangers from the People's Republic of China: Selection of Additional Mandatory Respondent (February 6, 2012).

⁶ See Letter to Pu Jiang from Catherine Bertrand, Program Manager, Office 9, Import Administration; regarding the Antidumping Duty Administrative Review of Steel Wire Garment Hangers from the People's Republic of China: Non-market Economy Questionnaire (February 6, 2012).

On March 8, 2012, we selected Shaoxing Shunji Metal Clotheshorse Co., Ltd. (“Shaoxing Shunji”) as a replacement mandatory respondent for Pu Jiang and served its U.S. counsel with the questionnaire.⁷ In our cover letter, we established a Section A questionnaire response deadline of March 29, 2012.⁸ Shaoxing Shunji did not respond to the Department's Section A questionnaire and did not request an extension by the stated deadline.

⁷ See Memorandum to James C. Doyle, Director, Office 9, from Kabir Archuletta, International Trade Compliance Analyst, Office 9, regarding Third Administrative Review of Steel Wire Garment Hangers from the People's Republic of China: Selection of Additional Mandatory Respondent (March 8, 2012).

⁸ See Letter to Shaoxing Shunji from Catherine Bertrand, Program Manager, Office 9, Import Administration; regarding the Antidumping Duty Administrative Review of Steel Wire Garment Hangers from the People's Republic of China: Non-market Economy Questionnaire (March 8, 2012).

On April 9, 2012, we selected Shaoxing Zhongbao Metal Manufactured Co., Ltd. (“Shaoxing Zhongbao”) as a replacement mandatory respondent and served its U.S. counsel with the questionnaire.⁹ In our cover letter, we established a Section A questionnaire response deadline of April 30, 2012.¹⁰ Shaoxing Zhongbao did not respond to the Department's Section A questionnaire and did not request an extension by the stated deadline.

⁹ See Memorandum to James C. Doyle, Director, Office 9, from Kabir Archuletta, International Trade Compliance Analyst, Office 9, regarding Third Administrative Review of Steel Wire Garment Hangers from the People's Republic of China: Selection of Additional Mandatory Respondent (April 9, 2012).

¹⁰ See Letter to Shaoxing Zhongbao from Catherine Bertrand, Program Manager, Office 9, Import Administration; regarding the Antidumping Duty Administrative Review of Steel Wire Garment Hangers from the People's Republic of China: Non-market Economy Questionnaire (April 9, 2012).

Statutory Time Limits

Section 751(a)(3)(A) of the Tariff Act of 1930, as amended (“the Act”), requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The preliminary results are currently due on July 2, 2012. The Department determines that completion of the preliminary results of this review within the statutory time period is not practicable because of an ongoing surrogate country selection issue.¹¹ Thus, the Department requires more time to gather and analyze surrogate country and value information, review questionnaire responses, and issue supplemental questionnaires. The current date of the preliminary results does not afford the Department adequate time to gather and analyze surrogate country and value information, request supplementary information, and allow parties to fully participate in the proceeding.

¹¹ See Letter from Catherine Bertrand, Program Manager, Office 9, Import Administration; regarding the Third Administrative Review of Steel Wire Garment Hangers from the People's Republic of China: Deadlines for the Surrogate Country and Surrogate Value Comments (March 2, 2012).

Therefore, in accordance with section 751(a)(3)(A) of the Act, the Department finds that it is not practicable to complete the preliminary results within the original time period and, thus, the Department is extending the time limit for issuing the preliminary results by 120 days until October 30, 2012. The final results continue to be due 120 days after the publication of the preliminary results.

This notice is published pursuant to section 777(i) of the Act.

Dated: May 8, 2012.
Christian Marsh,
Deputy Assistant Secretary for Antidumping and Countervailing Duty Operations.

[FR Doc. 2012-11654 Filed 5-11-12; 8:45 am]

BILLING CODE 3510-DS-P